DEPARTMENT OF THE INTERIOR

Bureau of Land Management

[LLNMP01000 L12200000.PM0000 234L1109AF]

Notice of Temporary Closure of Rob Jaggers Campground

AGENCY: Bureau of Land Management, Interior.

ACTION: Notice of temporary closure.

SUMMARY: Notice is hereby given that a temporary closure will be in effect on public lands administered by the Bureau of Land Management (BLM) Roswell Field Office during the American Endurance Ride Conference's official permitted endurance horseback riding events.

DATES: The closure dates will be in effect from 8 a.m. on July 7, 2023, through 10 a.m., July 16, 2023, Mountain Time.

ADDRESSES: This temporary closure order will be posted in the BLM Roswell Field Office, 2909 West 2nd Street, Roswell, NM 88201. Maps of the affected area and other documents associated with this temporary closure are available at Roswell Field Office.

FOR FURTHER INFORMATION CONTACT: Chuck Schmidt, Field Manager, Roswell Field Office, telephone (575) 627-0224, email: cschmidt@blm.gov; or Warren Kasper, National Conservation Area Manager, telephone (575) 808-9611, email: wkasper@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The temporary closure affects the Rob Jaggers Campground within the Fort Stanton-Snowy River Cave National Conservation Area in Lincoln County, New Mexico. This action is being taken to help ensure public safety during the American Endurance Ride Conference's official permitted endurance horseback riding events.

The BLM will post temporary closure signs at main entry points to this area.

This event is authorized on public land under a special recreation permit, in conformance with the BLM Roswell Resource Management Plan and the Fort Stanton-Snowy River Cave National Conservation Area Management Plan. Under the authority of section 303(a) of the Federal Land Policy and Management Act of 1976 (43 U.S.C. 1733(a)), 43 CFR 8360.0-7, and 43 CFR 8364.1, the BLM will enforce the following temporary closure and restrictions within the Rob Jaggers Campground.

Description of Closed Area

Areas subject to this temporary closure include all 20 acres of public lands situated within the interior of the Rob Jaggers Campground. All areas within the boundary of the Campground are closed to public entry during the temporary closure from July 7 to July 16, 2023.

Exceptions to Closure

The temporary closure does not apply to Federal, State, and local officers and employees in the performance of their official duties; members of organized rescue or firefighting forces in the performance of their official duties; persons with written authorization for the period of the event from the BLM; and designated officials, participants, crews, or persons operating on their behalf.

Enforcement

Any person who violates the temporary closure may be tried before a United States magistrate and fined in accordance with 18 U.S.C. 3571, imprisoned no more than 12 months under 43 U.S.C. 1733(a) and 43 CFR 8360.0-7, or both. In accordance with 43 CFR 8365.1-7, state or local officials may also impose penalties for violations of state law.

Effect of Closure

The entire Rob Jaggers Campground area as described above, and in the time period as described above, is temporarily closed to all public use, including pedestrian use, campers, and vehicles, unless affiliated with American Endurance Ride Conference use, and as specifically excepted as described above.

Authority: 43 CFR 8364.1.

Charles Schmidt,
BLM Roswell Field Manager.

[FR Doc. 2023-11982 Filed 6-5-23; 8:45 am]

BILLING CODE 4331-23-P